DEPARTMENT OF THE INTERIOR

National Park Service

National Register of Historic Places; Notification of Pending Nominations and Related Actions

Nominations for the following properties being considered for listing or related actions in the National Register were received by the National Park Service before July 26, 2008. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by August 26, 2008.

J. Paul Loether,
Chief, National Register of Historic Places/National Historic Landmarks Program.

COLORADO

El Paso County

Ponderosa Lodge, (Jules Jacques Benois Benedict Architecture in Colorado MPS) 6145 Shoup Rd., Colorado Springs, 08000829

DISTRICT OF COLUMBIA

District of Columbia

Eldbrooke United Methodist Church, (Tenleytown in Washington, D.C.: 1770-1941, MPS) 4100 River Rd., Washington, D.C., 08000840

Methodist Cemetery, The, (Tenleytown in Washington, D.C.: 1770-1941, MPS) Murdock Mill Rd. between River Rd. and 42nd St., Washington, D.C., 08000839

GEORGIA

Brooks County

Harris-Ramsey-Norris House, 1004 W. Lafayette St., Quitman, 08000832

Douglas County

Pine Mountain Gold Mine, 1881 Stockmar Rd., Villa Rica, 08000834

Marion County

Pasaquan, Eddie Martin Rd., Buena Vista, 08000833

Thomas County

Dewey City Historic District, Roughly bounded by Martin Luther King, Jr. Dr., Wolf St., Culpepper St., Burns St., and Felix St., Thomasville, 08000835

ILLINOIS

Cook County

Ravenswood Manor Historic District, Between Sacramento Ave., N. branch of the Chicago river, and alleys S. of Lawrence Ave. and N. of Montrose Ave., Chicago, 08000836

LOUISIANA

Lafourche Parish

Lefort House, 1302 Hwy. 1, Thibodaux, 08000843

MICHIGAN

Newaygo County

Croton Dam Mound Group, Address Restricted, Croton, 08000846

Washtenaw County

Delhi Bridge, E. Delhi Rd. over Huron River, Scio, 08000844

MISSOURI

Jackson County

Colonnade Apartment Building at 4302 Oak Street, (Colonnade Apartment Buildings of Kansas City, MO, MPS) 4302 Oak St., Kansas City, 08000857

Marion County

Culbertson-Head Farmstead, 7178 Co. Rd. 402, Palmyra, 08000838

NEW JERSEY

Morris County

Campfield, Dr. Jabez, House, 5 Olyphant Pl., Morristown, 08000837

OKLAHOMA

Canadian County

Lassen, Henry, House, 605 S. Hoff, El Reno, 08000852

Jackson County

Wichita Falls & Northwestern Railroad Passenger Depot, 523 S. Main St., Altus, 08000851

Pittsburg County

Rock Creek Bridge, Carries Co. Rd. NS-409.7 over Rock Creek, Blanco, 08000853

Tulsa County

City Veterinary Hospital, 3550 S. Peoria Ave., Tulsa, 08000848

Hawk Dairies, 2415 E. 11th St. S., Tulsa, 08000854

Mayo Motor Inn, 416 S. Cheyenne, Tulsa, 08000850

Mount Zion Baptist Church, 419 N. Elgin E. Ave., Tulsa, 08000847

Tulsa Monument Company, 1735 E. 11th St. S., Tulsa, 08000849

PENNSYLVANIA

Allegheny County

Mexican War Streets Historic District (Boundary Increase), Roughly bounded by Armandale St., Carrington St., Charlick Way, Reddour St., and W. N. Ave., Pittsburgh, 08000845

PUERTO RICO

San Juan Municipality

Martin Pena Bridge, (Historic Bridges of Puerto Rico MPS) State Rd. 25, km.8, Santurce Ward, San Juan, 08000856

VERMONT

Windsor County

Pollard Block, 7 Depot St., Cavendish, 08000855

VIRGINIA

Richmond Independent city

H.L. Lawson & Son Warehouse, 631 Campbell Ave. SE., Roanoke, 08000830

Scott County

Bush Mill, 1162 Bush Mill Rd., Nickelville, 08000831

WISCONSIN

Wood County

Columbia Park Band Shell, 201 W. Arnold St., Marshfield, 08000842

Weinbrenner Shoe Factory, 305 W. 3rd St., Marshfield, 08000841

[FR Doc. E8-18418 Filed 8-8-08; 8:45 am]

BILLING CODE 4310-70-P